DEPARTMENT OF THE INTERIOR

Fish and Wildlife Service

[Docket No. FWS-R1-ES-2022-0074; ES11140100000-245-FF01E0000]

Final Environmental Impact Statement for the Barred Owl Management Strategy; Washington, Oregon, and California

AGENCY: Fish and Wildlife Service, Interior.

ACTION: Notice of availability; final environmental impact statement.

SUMMARY: The U.S. Fish and Wildlife Service (Service) developed a proposed barred owl management strategy (strategy) to address the threat that the nonnative and invasive barred owl (Strix varia) poses to two native western owl subspecies—the northern spotted owl (Strix occidentalis caurina) and the California spotted owl (Strix occidentalis occidentalis). In accordance with the National Environmental Policy Act, this notice announces the availability of a final environmental impact statement (FEIS) evaluating the impacts on the human environment related to the proposed management strategy and associated take of barred owls, which is prohibited under the Migratory Bird Treaty Act unless authorized by the Service by permit or regulation. With this notice, we also make available the revised proposed management strategy.

DATES: The Service's decision on the proposed management strategy will occur no sooner than 30 days after publication of the U.S. Environmental Protection Agency's notice of availability of the FEIS in the Federal Register, and will be documented in a record of decision.

ADDRESSES: You may obtain copies of the strategy and FEIS documents by any of the following methods:

• Internet: https://www.regulations.gov (search for Docket No. FWS-R1-ES-2022-0074) or at https://www.fws.gov/project/barred-owl-management.

• Phone: You may call Robin Bown at 503-231-6923, to request alternative formats of the documents.

FOR FURTHER INFORMATION CONTACT: Robin Bown, U.S. Fish and Wildlife Office, Oregon Fish and Wildlife Office (see ADDRESSES), by telephone at 503-231-6923, or by email at robin_bown@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The U.S. Fish and Wildlife Service (Service) announces the availability of a final environmental impact statement (FEIS) addressing the proposed barred owl management strategy (strategy) developed to address the threat that the nonnative and invasive barred owl poses to two native western owl subspecies, the northern spotted owl (Strix occidentalis caurina) and the California spotted owl (Strix occidentalis occidentalis). Implementation of the proposed management strategy would involve the reduction of barred owl populations in designated management areas in Washington, Oregon, and northern California. Where barred owls are in the early stages of invasion in the California spotted owl's range, the proposed strategy would allow for removal of all barred owls in order to prevent establishment of barred owl populations.

This FEIS provides updates and clarifications to information presented in the draft environmental impact statement (DEIS), including revisions in response to issues raised in comments received during the public review period for that document, and identifies a preferred alternative. The Service, with input from 11 Federal and State cooperating agencies, has prepared this FEIS pursuant to the Council on Environmental Quality's (CEQ's) implementing NEPA regulations at 40 CFR parts 1500-1508, which became effective on May 20, 2022 (87 FR 23453; April 20, 2022).

Background

Spotted owls are native to western North America. Competition from nonnative and invasive barred owls has been identified as a primary threat to the northern spotted owl, which is listed as threatened under the Endangered Species Act (ESA; 16 U.S.C. 1531 et seq.), as well as a threat to the persistence of California spotted owl, which the Service has proposed for listing (88 FR 11600; February 23, 2023). Additional primary threats include the loss of habitat to timber harvest on non-Federal lands and to wildfires on Federal and non-Federal lands.

Barred owls, native to eastern North America, began to expand their range around 1900. Barred owls are larger and more aggressive than the northern spotted owl and the California spotted owl. Upon reaching the Pacific Northwest, barred owls quickly displaced spotted owls from their historic territories. Without management of barred owls, extirpation of northern spotted owls from major portions of their historic range is likely in the near future. While barred owls have not substantially impacted California spotted owl populations to date, the establishment of a small barred owl population in the northern Sierra Nevada mountains, and the history of the invasion and impacts on northern spotted owls following such expansion, demonstrates that barred owls are also a significant threat to the persistence of California spotted owls.

The barred owl is protected under the Migratory Bird Treaty Act (MBTA; 16 U.S.C. 703-712), which prohibits take of protected migratory bird species unless authorized by the Service through permit or regulation (50 CFR 21.10).

Purpose and Need for the Proposed Action

The purpose of this proposed action is to reduce barred owl populations to improve the survival and recovery of northern spotted owls and to prevent declines in California spotted owls from barred owl competition. Relative to northern spotted owls, the purpose is to reduce barred owl populations within selected treatment areas in the short term and to increase northern spotted owl populations in those treatment areas. Relative to the California spotted owl, the purpose is to limit the invasion of barred owls into the range of the subspecies and to provide for a rapid response to reduce barred owl populations that may become established.

As described in the FEIS, these actions are needed because barred owls compete with northern and California spotted owls. Competition from the barred owl is a primary cause of the rapid and ongoing decline of northern spotted owl populations. Due to the rapidity of the decline, it is critical that we manage barred owl populations to reduce their negative effects before northern spotted owls are extirpated from large portions of their native range. There is also a need to focus on limiting the invasion of barred owls into the California spotted owl range, as we expect that additional impacts to California spotted owl populations would be inevitable without barred owl management, and invasive species are very difficult to remove once established.

Proposed Action and Alternatives

The proposed action, identified as the preferred alternative in the FEIS, is the issuance of a Migratory Bird Special Purpose permit under the MBTA (50 CFR 21.95) and implementation of the management strategy. The FEIS analyzed the proposed action, a no action alternative, and four alternatives to the proposed action, including the environmental consequences of each alternative. All action alternatives include issuance of an MBTA permit for management to reduce barred owl populations in areas within the northern spotted owl's range, and prevent establishment of barred owl populations within the California spotted owl's range. The locations and relative priorities for removal would vary by action alternative. None of the alternatives would require any entity to implement barred owl management; rather, they outline various combinations of management approaches, geographic areas, and other components that would allow for and guide management actions and the ability to prioritize areas of greatest need.

Six alternatives are analyzed in detail in the FEIS:

Alternative 1—No Action: Under the no action alternative, a comprehensive management strategy would not be finalized or implemented, and the Service would not issue an MBTA permit for systematic management of barred owls. Ongoing barred owl removal as part of research efforts in California would still occur, and future efforts that may be proposed anywhere in the range of the spotted owl could still occur.

Alternative 2—Management Strategy Implementation (Preferred Alternative): Under the preferred alternative, the proposed strategy would include three approaches to barred owl management within the northern spotted owl's range: spotted owl site management, General Management Areas with associated Focal Management Areas, and Special Designated Areas. In the California spotted owl's range, where we are focused on early detection and rapid response at the invasion front, the proposed action focuses on surveys, inventory, and monitoring to detect invading barred owls, and rapid removal of any barred owls detected.

Alternative 3—Management Across the Range: Under this alternative, barred owl management could be implemented anywhere within the range of the northern or California spotted owls or within 15 miles of the range of the subspecies on up to 50 percent of the area.

Alternative 4—Limited Management by Province/Population: Within the northern spotted owl's range, this alternative would focus barred owl management on a single large General Management Area within each physiographic province. In the California spotted owl's range, barred owl management would be delayed until detections reached 10 percent of surveys in areas within the Sierra Nevada portion of the population, or 5 percent within the Coastal-Southern California portion of the province.

Alternative 5—Management Focused on Highest Risk Areas: In the northern spotted owl's range, this alternative would focus barred owl management in the northern provinces, where the subspecies is at greatest risk of extirpation from barred owl competition. In the California spotted owl's range, barred owl management would be limited to the northern Sierra Nevada portion of the subspecies' range.

Alternative 6—Management Focused on Best Conditions: This alternative would focus barred owl management in the southern portion of the northern spotted owl's range. In the California spotted owl's range, barred owl management would be focused on areas with the best remaining habitat and areas with higher fire resiliency.

Lead and Cooperating Agencies

The Service is the lead agency for the NEPA process, including development of the FEIS. The following agencies were cooperating agencies in the NEPA process and provided input and assistance with the development of the FEIS: U.S. Forest Service (Regions 5 and 6), Bureau of Land Management (Oregon), Bureau of Land Management (California), National Park Service (Interior Regions 8, 9, 10, 12), Animal and Plant Health Inspection Service-Wildlife Services (U.S. Department of Agriculture), Washington State Department of Fish and Wildlife, Washington State Department of Natural Resources, Oregon Department of Forestry, Oregon Department of Fish and Wildlife, California Department of Fish and Wildlife, and California Department of Forestry and Fire Protection.

Anticipated Permits and Authorizations

As described above, if an action alternative is selected, the Service expects to obtain a Migratory Bird Special Purpose permit under the MBTA to implement the selected management strategy. Depending on the location and landowners involved in implementation of the management strategy, barred owl management could require additional Federal and State permits. We anticipate the potential need for implementors to acquire permits from the States of Washington, Oregon, and California to carry out the proposed barred owl removal actions under the proposed management strategy.

Public Involvement

The Service published a notice of intent to prepare an EIS, opening a public scoping period on July 22, 2022 (87 FR 43886), which closed on August 22, 2022. A virtual public scoping meeting was held July 28, 2022. The Service prepared a DEIS and opened a 60-day public comment period on the DEIS and draft management strategy on November 17, 2023 (88 FR 80329). Two virtual public meetings were held, on December 4, 2023, and December 14, 2023, during the comment period, which ended on January 16, 2024. A total of 8,613 public comments were received during the DEIS comment period, including duplicates.

In preparing the FEIS, the Service considered all of the public comments on the DEIS and draft strategy in accordance with the requirements of NEPA (42 U.S.C. 4321 et seq.) and pursuant to the CEQ's implementing NEPA regulations at 40 CFR parts 1500-1508.

Environmental Protection Agency's Role in the EIS Process

The Environmental Protection Agency (EPA) is charged under section 309 of the Clean Air Act with reviewing all Federal agencies' EISs and commenting on the adequacy and acceptability of the environmental impacts of proposed actions. Under the CEQ NEPA regulations, EPA is also responsible for administering the EIS filing process. EPA is publishing a notice in the Federal Register announcing this FEIS. EPA serves as the repository (EIS database) for EISs prepared by Federal agencies. You may search for EPA comments on EISs, along with EISs themselves, at https://cdxapps.epa.gov/cdx-enepa-II/public/action/eis/search.

Next Steps and Decision To Be Made

The Service will evaluate the associated documents and public comments received during the public comment periods in reaching a final decision on the proposed management strategy and issuance of an MBTA permit. At least 30 days after the FEIS is published, the Service expects to complete a record of decision pursuant to 40 CFR 1505.2, in accordance with applicable timeframes established in 40 CFR 1506.11. The Service expects to issue a record of decision in August 2024.

Authority

We provide this notice in accordance with the requirements of NEPA and its implementing regulations (40 CFR 1503.1 and 1506.6).

Hugh Morrison,
Regional Director, Pacific Region.

[FR Doc. 2024-14724 Filed 7-3-24; 8:45 am]

BILLING CODE 4333-15-P